DEPARTMENT OF ENERGY

Federal Energy Regulatory Commission

[Docket No. AD23-7-000]

PJM Capacity Market Forum; Second Supplemental Notice of Forum

As announced in the April 19, 2023 Notice in this proceeding, the Federal Energy Regulatory Commission (Commission) will convene a Commissioner-led forum to examine the PJM Interconnection, L.L.C. (PJM) capacity market in the above-captioned proceeding on June 15, 2023 from approximately 12:00 p.m. to 5:00 p.m. Eastern Time, following the Commission's scheduled open meeting. The forum will be held in-person at the Commission headquarters at 888 First Street NE, Washington, DC 20426 in the Commission Meeting Room.

The purpose of this forum is to solicit varied perspectives on the current state of the PJM capacity market, potential improvements to the market, and to consider related proposals to address resource adequacy. The forum will include three panels that will explore whether the PJM capacity market is achieving its objective of ensuring resource adequacy at just and reasonable rates, discuss potential market design reforms that may be needed to achieve this objective, and discuss state Commissioners' and state representatives' views on these issues.

A finalized agenda for this forum is attached to this Supplemental Notice, which includes the forum program and expected panelists.

While the forum is not for the purpose of discussing any specific matters before the Commission, some forum discussions may involve issues raised in proceedings that are currently pending before the Commission. These proceedings include, but are not limited to:

PJM Interconnection, L.L.C | Docket Nos. ER22-962, et al.
PJM Interconnection, L.L.C | Docket Nos. ER23-729, et al.; EL23-19, et al.
PJM Interconnection, L.L.C | Docket No. ER23-1038-001.
PJM Interconnection, L.L.C | Docket No. ER23-1067-000.
PJM Interconnection, L.L.C | Docket No. ER23-1609-000.
PJM Interconnection, L.L.C | Docket No. ER23-1700-000.
PJM Interconnection, L.L.C | Docket No. EL21-78-000.
PJM Interconnection, L.L.C | Docket No. ER23-1996-000.
SOO Green HVDC Link ProjectCo, LLC v. PJM Interconnection, L.L.C | Docket No. EL21-103-000.
Roy J. Shanker v. PJM Interconnection LLC | Docket No. EL23-13-000.
Essential Power OPP, LLC, et al v. PJM Interconnection, L.L.C | Docket No. EL23-53-000.
Aurora Generation, LLC, et al. v. PJM Interconnection, L.L.C | Docket No. EL23-54-000.
Coalition of PJM Capacity Resources v. PJM Interconnection, L.L.C | Docket No. EL23-55-000.
Talen Energy Marketing, LLC v. PJM Interconnection, L.L.C | Docket No. EL23-56-000.
Lee County Generating Station, LLC v. PJM Interconnection, L.L.C | Docket Nos. EL23-57, et al.
SunEnergy1, LLC v. PJM Interconnection, L.L.C | Docket No. EL23-58-000.
Lincoln Generating Facility, LLC v. PJM Interconnection, L.L.C | Docket No. EL23-59-000.
Parkway Generation Keys Energy Center LLC v. PJM Interconnection, L.L.C | Docket No. EL23-60-000.
Old Dominion Electric Cooperative v. PJM Interconnection, L.L.C | Docket No. EL23-61-000.
Energy Harbor LLC v. PJM Interconnection, L.L.C | Docket No. EL23-63-000.
Calpine Corp. v. PJM Interconnection, L.L.C | Docket No. EL23-66-000.
Invenergy Nelson LLC v. PJM Interconnection, L.L.C | Docket No. EL23-67-000.
East Kentucky Power Cooperative, Inc. v. PJM Interconnection, L.L.C | Docket No. EL23-74-000.
LSP University Park, LLC | Docket No. RP23-809-000.

The forum will be open to the public and there is no fee for attendance. Information will also be posted on the Calendar of Events on the Commission's website, www.ferc.gov, prior to the event.

The forum will be transcribed and webcast. Transcripts will be available for a fee from Ace Reporting (202-347-3700). A free webcast of this event is available through the Commission's website. Anyone with internet access who desires to view this event can do so by navigating to www.ferc.gov' s Calendar of Events and locating this event in the Calendar. The Federal Energy Regulatory Commission provides technical support for the free webcasts. Please call (202) 502-8680 or email customer@ferc.gov if you have any questions.

Commission forums are accessible under section 508 of the Rehabilitation Act of 1973. For accessibility accommodations, please send an email to accessibility@ferc.gov, call toll-free (866) 208-3372 (voice) or (202) 208-8659 (TTY), or send a fax to (202) 208-2106 with the required accommodations.

For more information about this forum, please contact Katherine Scott at katherine.scott@ferc.gov or (202) 502-8190. For information related to logistics, please contact Sarah McKinley at sarah.mckinley@ferc.gov or (202) 502-8368.

Dated: June 9, 2023.
Debbie-Anne A. Reese,
Deputy Secretary.

[FR Doc. 2023-12863 Filed 6-15-23; 8:45 am]

BILLING CODE 6717-01-P